Proclamation 7880 of April 1, 2005

National Former Prisoner of War Recognition Day, 2005

By the President of the United States of America

A Proclamation

From the time of our Nation's founding, members of our military have built a tradition of honorable and faithful service. As they fought to protect our security and defend our ideals, some endured the extreme hardship of enemy captivity. On National Former Prisoner of War Recognition Day, we remember those courageous individuals taken prisoner while defending our country, and we honor their extraordinary sacrifices.

America's former prisoners of war are among our Nation's bravest heroes. Under the worst conditions, they fought fiercely and served with honor, and they continue to inspire generations with their strength and perseverance. In serving our Nation, each demonstrated personal courage, love of country, and devotion to duty. Because of their sacrifices, and the selflessness and heroism of all who have served in our Armed Forces, millions of people now live in freedom, and America remains the greatest force for good on Earth. On this day, we honor their role in protecting our country and the liberty of mankind.

Today, our brave men and women in uniform carry on their legacy—unrelenting in battle, unwavering in loyalty, and unmatched in decency. As we pursue victory in the war on terror, I join all Americans in expressing our deepest gratitude to every service member who has been a prisoner of war and to their families.

NOW, THEREFORE, I, GEORGE W. BUSH, President of the United States of America, by virtue of the authority vested in me by the Constitution and laws of the United States, do hereby proclaim April 9, 2005, as National Former Prisoner of War Recognition Day. I call upon the people of the United States to join me in remembering former American prisoners of war by honoring their sacrifices. I also call upon Federal, State, and local government officials and private organizations to observe this day with appropriate ceremonies and activities.

IN WITNESS WHEREOF, I have hereunto set my hand this first day of April, in the year of our Lord two thousand five, and of the Independence of the United States of America the two hundred and twenty-ninth.

B

[FR Doc. 05-6906

Filed 4-4-05; 10:49 am]

Billing code 3195-01-P